COMMITTEE FOR PURCHASE FROM PEOPLE WHO ARE BLIND OR SEVERELY DISABLED

Privacy Act of 1974; System of Records

AGENCY: Committee for Purchase From People Who Are Blind or Severely Disabled, Office of Inspector General.

ACTION: Notice of new privacy act system of records.

SUMMARY: In accordance with the Privacy Act of 1974 and OMB Circular A-108, the U.S. AbilityOne Commission, Office of Inspector General proposes to establish a new U.S. AbilityOne Commission, Office of Inspector General system of records titled, AbilityOne/OIG-001 Case Management System. This system of records will allow U.S. AbilityOne Commission, Office of Inspector General to collect and maintain records on individuals who may be complainants, subjects, witnesses, and others who may be identified during an investigation. The records and information collected and maintained in this system are used to document the processing of allegations of violations of criminal, civil, and administrative laws and regulations relating to U.S. AbilityOne Commission/OIG programs, operations, and employees, as well as contractors and other individuals and entities associated with U.S. AbilityOne Commission/OIG. Additionally, the U.S. AbilityOne Commission, Office of Inspector General is issuing a Notice of Proposed Rulemaking to exempt this system from certain provisions of the Privacy Act.

DATES: Submit comments on or before July 21, 2023. This new system will be effective July 21, 2023.

ADDRESSES: You may submit comments, identified by docket number and title, by any of the following methods:

Federal Rulemaking Portal: http://www.regulations.gov. Follow the instructions for submitting comments.

Mail: U.S. AbilityOne Commission Office of Inspector General, 355 E Street SW (OIG Suite 335), Washington, DC 20024.

Instructions: All submissions received must include the agency name and docket number for this Federal Register document. The general policy for comments and other submissions from members of the public is to make these submissions available for public viewing on the internet at http://www.regulations.gov as they are received without change, including any personal identifiers or contact information.

FOR FURTHER INFORMATION CONTACT: For general questions, please contact: Kamil Ali, Attorney-Advisor, U.S. AbilityOne Commission Office of Inspector General, 355 E Street SW (OIG Suite 335), Washington, DC 20024. (202) 603-2248, kali@oig.abilityone.gov. For privacy questions, please contact: Mr. Kamil Ali, Attorney-Advisor, U.S. AbilityOne Commission Office of Inspector General, 355 E Street SW (OIG Suite 335), Washington, DC 20024. Phone: (202) 603-2248, Email: kali@oig.abilityone.gov.

SUPPLEMENTARY INFORMATION:

I. Background

In accordance with the Privacy Act of 1974, 5 U.S.C. 552a, the U.S. AbilityOne Commission, Office of Inspector General (AbilityOne/OIG) proposes to establish a new system of records titled, “AbilityOne/OIG-001 Case Management System of Records.” This system of records will allow the U.S. AbilityOne Commission Office of the Inspector General to collect and maintain records on individuals who may be complainants, subjects, witnesses, and others who may be identified during the course of an investigation. The U.S. AbilityOne Inspector General is responsible for conducting and supervising independent and objective audits, inspections, and investigations of the programs and operations of the Commission. OIG promotes economy, efficiency, and effectiveness within the AbilityOne/OIG and prevents and detects fraud, waste, and abuse in its programs and operations. OIG's Office of Investigations investigates allegations of criminal, civil, and administrative misconduct involving U.S. AbilityOne Commission employees, contractors, and Commission programs and activities. This includes investigating for violations of criminal laws by entities regulated by U.S. AbilityOne Commission, regardless of whether they receive Federal funds. These investigations can result in criminal prosecutions, fines, civil monetary penalties, and administrative sanctions.

The AbilityOne/OIG-001 Case Management System system of records assists the OIG with receiving and processing complaints of violations of criminal, civil, and administrative laws and regulations relating to U.S. AbilityOne Commission employees, contractors, regulated persons, and other individuals and entities associated with AbilityOne. The system includes both paper investigative files and OIG's electronic case management and tracking information system which also generates reports. The case management system allows OIG to manage information provided during its investigations, and, in the process, to facilitate its management of investigations and investigative resources. Through this system, OIG can create a record showing disposition of allegations; track actions taken by management regarding misconduct; track legal actions taken following referrals to the U.S. Department of Justice for prosecution or civil action; provide a system for creating and reporting statistical information; and track government property and other resources used in investigative activities.

Additionally, the U.S. AbilityOne Commission, Office of Inspector General is issuing a Notice of Proposed Rulemaking to exempt this system from certain provisions of the Privacy Act.

II. Privacy Act

The Privacy Act (5 U.S.C. 552a) governs the means by which the Federal Government collects, maintains, and uses personally identifiable information (PII) in a System of Records. A “System of Records” is a group of any records under the control of a federal agency from which information about individuals is retrieved by name or other personal identifier. The Privacy Act requires each agency to publish in the Federal Register a System of Records notice (SORN) identifying and describing each System of Records the agency maintains, including the purposes for which the agency uses PII in the system, the routine uses for which the agency discloses such information outside the agency, and how individuals to whom a Privacy Act record pertains can exercise their rights under the Privacy Act (e.g., to determine if the system contains information about them and to contest inaccurate information).

In accordance with 5 U.S.C. 552a(r), U.S. AbilityOne Commission OIG has provided a report of this system of records to the Office of Management and Budget and to Congress. Below is the description of the AbilityOne/OIG-001 Case Management System, System of Records.

SYSTEM NAME AND NUMBER:

AbilityOne Commission/Office of Inspector General (AbilityOne/OIG)-001 Case Management System, System of Records.

SECURITY CLASSIFICATION:

Unclassified—Sensitive.

SYSTEM LOCATION:

Records are maintained at the U.S. AbilityOne Commission OIG Headquarters in Washington, DC.

SYSTEM MANAGER(S):

Case Management System Administrator; 355 E St. SW (Suite 355), Washington, DC 20024; Phone number 844-496-1536.

AUTHORITY FOR MAINTENANCE OF THE SYSTEM:

The Inspector General Act of 1978, 5 U.S.C. 401-424; 5 U.S.C. app. 3.

PURPOSE(S) OF THE SYSTEM:

The records and information collected and maintained in this system are used to document the processing of allegations of violations of criminal, civil, and administrative laws and regulations relating to U.S. AbilityOne Commission programs, operations, and employees, as well as contractors and other individuals and entities associated with U.S. AbilityOne Commission; monitor case assignments, status, disposition, and results; manage investigations and information provided during the course of such investigations; track actions taken by management regarding misconduct and other allegations; track legal actions taken following referrals to the Department of Justice for prosecution or litigation; create and report statistical information; and manage property records establishing chain of custody of evidence.

CATEGORIES OF INDIVIDUALS COVERED BY THE SYSTEM:

Individuals filing complaints of criminal, civil, or administrative violations, including, but not limited to, fraud, waste, or mismanagement; individuals alleged to have been involved in such violations; individuals identified as having been adversely affected by matters investigated by the OIG; individuals who have been identified as possibly relevant to, or who are contacted as part of, an OIG investigation, including: (A) current and former employees of the U.S. AbilityOne Commission, other Federal agencies, and U.S. AbilityOne Commission contractors, grantees, and persons whose association with current and former employees relate to alleged violations under investigation; and, (B) witnesses, complainants, confidential informants, suspects, defendants, or parties who have been identified by the OIG, other U.S. AbilityOne Commission components, other agencies, or members of the general public in connection with authorized OIG functions; and OIG employees performing investigative functions.

CATEGORIES OF RECORDS IN THE SYSTEM:

Categories of records in this system may include:

• Investigative agent name and contact information;

• Individual's name and aliases;

• Date of birth;

• Social Security Number;

• Telephone and cell phone numbers;

• Physical and mailing addresses;

• Electronic mail addresses;

• Physical description;

• Citizenship;

• Photographs;

• Job title, employment position, and other employment data;

• Individual Eligibility Evaluations and other medical documentation;

• Any other personal information relevant to the subject matter of an OIG investigation;

• Investigative files containing complaints and allegations, witness statements; transcripts of electronic monitoring; subpoenas and legal opinions and advice; reports of investigation; reports of criminal, civil, and administrative actions taken as a result of the investigation; and other relevant evidence;

• Property receipts establishing chain of custody of evidence.

RECORD SOURCE CATEGORIES:

Records are obtained from sources including, but not limited to, the individual record subjects; U.S. AbilityOne Commission employees, grantees, and contractors; employees of Federal, State, local, and foreign agencies; and other persons and entities.

ROUTINE USES OF RECORDS MAINTAINED IN THE SYSTEM, INCLUDING CATEGORIES OF USERS AND PURPOSES OF SUCH USES:

In addition to those disclosures generally permitted under the Privacy Act, all or a portion of the records or information contained in this system may be disclosed outside U.S. AbilityOne Commission as a routine use pursuant to 5 U.S.C. 552a(b)(3) as follows:

1. To other Federal, State, local, or foreign agencies or administrations, and licensing and professional discipline authorities, having interest or jurisdiction in the matter.

2. To third parties in the course of an investigation, when necessary to obtain pertinent information.

3. To any person when disclosure of the record is needed to enable the recipient of the record to take action to recover money or property of U.S. AbilityOne Commission or OIG, when such recovery will accrue to the benefit of the United States, or when disclosure of the record is needed to enable the recipient of the record to take appropriate disciplinary or corrective action to maintain the integrity of AbilityOne programs or operations.

4. To complainants and/or victims to the extent necessary to provide such persons with information and explanations concerning the progress and/or results of the investigation or case arising from the matters of which they complained and/or of which they were a victim.

5. To media and the public when the public interest requires, unless it is determined by OIG counsel that release of specific information in the context of a particular case would constitute an unwarranted invasion of personal privacy.

6. To an individual or individuals who are in danger or in situations involving an imminent danger of death or physical injury.

7. To either the House of Congress, or, to the extent of matter within its jurisdiction, any committee thereof, any joint committee of congress or subcommittee of any such joint committee.

8. To another agency or to an instrumentality of any governmental jurisdiction within or under the control of United States for a civil or criminal law enforcement activity if the head of the agency or the instrumentality has made a written request to U.S. AbilityOne Commission OIG specifying the particular portion of the record desired and the law enforcement activity for which the record is sought.

9. To the Department of Justice when (a) the agency, or any component thereof; or (b) any employee of the agency in his or her official capacity; or (c) any employee of the agency in his or her individual capacity where the Department of Justice has agreed to represent the employee; or (d) the United States, where the agency determines that litigation is likely to affect the agency or any of its components, is a party to litigation or has an interest in such litigation, and the use of such records by the Department of Justice is deemed by the agency to be relevant and necessary to the litigation, provided, however, that in each case, the agency determines that disclosure of the records to the Department of Justice is a use of the information contained in the records that is compatible with the purpose for which the records were collected.

10. To a court or adjudicative body before which agency is authorized to appear, when (a) the agency, or any component thereof; or (b) any employee of the agency in his or her official capacity; or (c) any employee of the agency in his or her individual capacity where the agency has agreed to represent the employee; or (d) the United States, where the agency determines that litigation is likely to affect the agency or any of its components, is a party to litigation or has an interest in such litigation, and the agency determines that use of such records is relevant and necessary to the litigation, provided, however, that in each case, the agency determines that disclosure of the records to the Department of Justice is a use of the information contained in the records that is compatible with the purpose for which the records were collected.

11. To a congressional office in response to an inquiry of records of an individual from the congressional office made at the request of the individual.

12. To other agencies and the Council of Inspectors General on Integrity and Efficiency (CIGIE) for purposes of conducting and reviewing peer reviews of the OIG to ensure adequate internal safeguards and management procedures exist or to ensure that standards applicable to Government audits, investigations, or other agency activities are applied and followed.

13. To appropriate agencies, entities, and persons when (1) U.S. AbilityOne Commission OIG suspects or has confirmed that there has been a breach of the system of records, (2) U.S. AbilityOne Commission OIG has determined that as a result of the suspected or confirmed breach there is a risk of harm to individuals, U.S. AbilityOne Commission OIG (including its information systems, programs, and operations), the Federal Government, or national security; and (3) the disclosure made to such agencies, entities, and persons is reasonably necessary to assist in connection with U.S. AbilityOne Commission OIG's efforts to respond to the suspected or confirmed breach or to prevent, minimize, or remedy such harm.

14. To another Federal agency or Federal entity, when U.S. AbilityOne Commission OIG determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

Records in this system are stored electronically and/or on paper in secure facilities. Electronic records may be stored on magnetic disc, tape, digital media, and CD-ROM.

POLICIES AND PRACTICES FOR RETRIEVAL OF RECORDS:

Records are primarily organized and retrieved by case numbers. Paper media are retrievable alphabetically by name of subject or complainant, by case number, and/or by special agent name and/or employee identifying number. Electronic media are retrieved by the name or identifying number for a complainant, subject, victim, or witness; by case number; by special agent name or other personal identifier; or by field office designation.

POLICIES AND PRACTICES FOR RETENTION AND DISPOSAL OF RECORDS:

Records for closed cases are kept for 15 years.

ADMINISTRATIVE, TECHNICAL, AND PHYSICAL SAFEGUARDS:

Access is restricted to agency personnel whose responsibilities require access. Access to the database is password protected with two factor authentication.

RECORD ACCESS PROCEDURES:

Under the Privacy Act, individuals may request access to records about themselves. If an agency or a person, who is not the individual who is the subject of the records, requests access to records about an individual, the written consent of the individual who is the subject of the records is required. Requesters may submit requests for records under the Privacy Act in the following ways: (1) by mail to Ms. Kimberly Zeich, Executive Director, U.S. AbilityOne Commission 355 E Street SW (Suite 325), Washington, DC 20024; or (2) via email to foia@abilityone.gov. Requesters must provide the information that is necessary to identify the records, including the following: Requester's full name; present mailing address; home telephone; work telephone; name of subject, if other than requester; requester relationship to subject; description of type of information or specific records; and purpose of requesting information. Requesters should be as specific as possible about the records being requested including enough file-related or event-related information such as the subject matter and date and any information to permit an organized, non-random search for documents.

CONTESTING RECORD PROCEDURES:

Individuals seeking to contest or amend records maintained on himself or herself must clearly and concisely state that information is being contested, and the proposed amendment to the information sought. Requests to amend a record must follow the Record Access Procedures above.

NOTIFICATION PROCEDURE SECTIONS:

Same as Record Access Procedures.

EXEMPTIONS PROMULGATED FOR THE SYSTEM:

Pursuant to 5 U.S.C. 552a(j)(2), this system is exempt from the following provisions of the Privacy Act: 5 U.S.C. 552a (c)(3)-(4); (d); (e)(1)-(3); (e)(4)(G)-(I); (e)(5); (e)(8); and (f)-(g); and from 41 CFR 51-9.1, § 51-9.2, § 51-9.3, § 51-9.4, and § 51-9.7.

Pursuant to 5 U.S.C. 552a(k)(2), this system is exempt from the following provisions of the Privacy Act, subject to the limitations set forth in those subsections: 5 U.S.C. 552a(c)(3), (d). (e)(4)(G)-(I) and (f);; and from 41 CFR 51-9.1, § 51-9.2, § 51-9.3, § 51-9.4, and § 51-9.7.

Exemptions from the subsections are justified for because application of these provision would present a serious impediment to law enforcement. Access to the records contained in this system of records could inform the subject of an investigation of an actual or potential criminal, civil, or regulatory violation, of the existence of that investigation; of the nature and scope of the information and evidence obtained as to his activities; of the identity of confidential sources, witnesses, and law enforcement personnel, and of information that may enable the subject to avoid detection or apprehension. These factors would present a serious impediment to effective law enforcement where they prevent the successful completion of the investigation, endanger the physical safety of confidential sources, witnesses, and law enforcement personnel, and/or lead to the improper influencing of witnesses, the destruction of evidence, or the fabrication of testimony. In addition, granting access to such information could disclose security-sensitive or confidential business information or information that would constitute an unwarranted invasion of the personal privacy of third parties. Finally, access to the records could result in the release of properly classified information which would compromise the national defense or disrupt foreign policy. Amendment of the records would interfere with ongoing investigations and law enforcement activities and impose an impossible administrative burden by requiring investigations to be continuously reinvestigated. It is not possible to detect relevance or necessity of specific information in the early stages of a civil, criminal or other law enforcement investigation, case, or matter, including investigations in which use is made of properly classified information. Relevance and necessity are questions of judgment and timing, and it is only after the information is evaluated that the relevance and necessity of such information can be established.

Michael R. Jurkowski,
Acting Director, Business Operations.

[FR Doc. 2023-13190 Filed 6-20-23; 8:45 am]

BILLING CODE 6353-01-P